DEPARTMENT OF HEALTH AND HUMAN SERVICES

Administration for Children and Families

Submission for OMB Review; Comment Request

Title: Reasonable Cause/Corrective Action Documentation Process.

OMB No.: 0970-0199.

Description: The Social Security Act provides that States can be penalized for misusing Temporary Assistance for Needy Families funds and for failure to comply with other requirements. If a State wishes to dispute a penalty determination or wants to be considered for a waiver of a penalty, the State may submit a “reasonable cause” justification and/or a corrective compliance plan. After careful consideration of one or both documents, we will notify the State of our findings with respect to the penalty. This process was established by section 409 of the Social Security Act and the implementing Federal regulations at 45 CFR part 261, subpart E, Part 262, and Part 264.

Respondents: The 50 States of the United States, the District of Columbia, Guam, Puerto Rico, and the Virgin Islands.

Annual Burden Estimates
Instrument | Number of respondents | Number of responses per respondent | Average burden hours per response | Total burden hours
Reasonable Cause/Corrective Action Documentation Process | 54 | 2 | 160 | 17,280
Estimated Total Annual Burden Hours | 17,280

Additional Information

Copies of the proposed collection may be obtained by writing to the Administration for Children and Families, Office of Administration, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington DC 20503, Attn: Desk Officer for ACF.

Dated: February 10, 2003.
Robert Sargis,
Reports Clearance Officer.

[FR Doc. 03-3681 Filed 2-13-03; 8:45 am]

BILLING CODE 4184-01-M